ENVIRONMENTAL PROTECTION AGENCY

[FRL-8267-5]

Clean Air Act Operating Permit Program; Petition for Objection to State Operating Permit for Denver Regional Landfill South, Weld County, CO

AGENCY: Environmental Protection Agency (EPA).

ACTION: Notice of final order on petition to object to a state operating permit.

SUMMARY: This document announces that the EPA Administrator has responded to a citizen petition asking EPA to object to a Clean Air Act (Act) title V operating permit issued by the Colorado Department of Public Health and Environment (CDPHE). Specifically, the Administrator has denied the March 9, 2006 petition submitted by Rocky Mountain Clean Air Action and Jeremy Nichols (Petitioners) to object to the March 1, 2006 operating permit issued to Denver Regional Landfill South (DRLS).

Pursuant to section 505(b)(2) of the Act, a petitioner may seek judicial review of EPA's denial of a petition in the United States Court of Appeals for the appropriate circuit. Any petition for review shall be filed within 60 days from the date this notice appears in the Federal Register, pursuant to section 307 of the Act.

ADDRESSES: You may review copies of the final order, the petition, and other supporting information at the EPA Region 8 Office, 999 18th Street, Suite 200, Denver, Colorado 80202-2466, and following the relocation of Region 8 at 1595 Wynkoop Street, Denver, Colorado 80202-1129. EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before visiting. Additionally, the final order for Denver Regional Landfill South is available electronically at: http://www.epa.gov/region7/programs/artd/air/title5/petitiondb/petitiondb2006.htm.

FOR FURTHER INFORMATION CONTACT: Christopher Razzazian, Office of Partnership and Regulatory Assistance, EPA, Region 8, 999 18th Street, Suite 200, Denver, Colorado 80202-2466, (303) 312-6648, razzazian.christopher@epa.gov.

SUPPLEMENTARY INFORMATION: The Act affords EPA a 45-day period to review, and object to, as appropriate, a title V operating permit proposed by a state permitting authority. Section 505(b)(2) of the Act authorizes any person to petition the EPA Administrator, within 60 days after the expiration of the EPA review period, to object to a title V operating permit if EPA has not done so. Petitions must be based only on objections to the permit that were raised with reasonable specificity during the public comment period provided by the State, unless the petitioner demonstrates that it was impracticable to raise these issues during the comment period, or the grounds for the issues arose after this period.

On March 9, 2006, EPA received a petition from Petitioners requesting that EPA object to the title V operating permit for Denver Regional Landfill South. The request was based on various allegations related to permit-specific procedural and substantive issues. The following is a summary of the main objections raised by the Petitioners: (1) Colorado did not respond to significant comments Petitioners raised during a second comment period on the permit, which resulted in deficiencies in the permit; (2) the operating permit fails to ensure compliance with the New Source Performance Standards (NSPS) for municipal solid waste landfills; (3) the operating permit fails to ensure compliance with startup, shutdown, and malfunction plan requirements in relation to the control of hazardous air pollutants; and (4) the operating permit contains an inappropriate exemption from emission limits during upset conditions and thus, fails to ensure compliance with applicable requirements related to NAAQS and PSD increments.

On December 22, 2006, the Administrator issued an order denying the petition. The order explains the reasons behind EPA's conclusion to deny the petition for objection on all grounds.

Dated: December 28, 2006.
Robert E. Roberts,
Regional Administrator, Region 8.

[FR Doc. E7-251 Filed 1-10-07; 8:45 am]

BILLING CODE 6560-50-P